SMALL BUSINESS ADMINISTRATION

[Disaster Declaration #18094 and #18095; HAWAII Disaster Number HI-00074]

Presidential Declaration Amendment of a Major Disaster for Public Assistance Only for the State of Hawaii

AGENCY: U.S. Small Business Administration.

ACTION: Amendment 3.

SUMMARY: This is an amendment of the Presidential declaration of a major disaster for Public Assistance Only for the State of HAWAII (FEMA-4724-DR), dated 08/21/2023.

Incident: Wildfires, including High Winds.

Incident Period: 08/08/2023 through 09/30/2023.

DATES: Issued on 10/23/2023.

Physical Loan Application Deadline Date: 10/25/2023.

Economic Injury (EIDL) Loan Application Deadline Date: 05/21/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Hawaii, dated 08/21/2023, is hereby amended to extend the deadline for filing applications for physical damage as a result of this disaster to 10/25/2023.

All other information in the original declaration remains unchanged.

(Catalog of Federal Domestic Assistance Number 59008)

Francisco Sánchez, Jr.,
Associate Administrator, Office of Disaster Recovery & Resilience.

[FR Doc. 2023-23824 Filed 10-27-23; 8:45 am]

BILLING CODE 8026-09-P